DEPARTMENT OF LABOR

Employment and Training Administration

Proposed Information Collection Request of the Resource Justification Model; Comment Request

AGENCY: Employment and Training Administration, DOL.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed. Currently, the Employment and Training Administration (ETA) is soliciting comments concerning the proposed extension of collection of information through the Resource Justification Model (RJM). The data collected within the RJM state submissions are used as input to the process of distributing unemployment insurance (UI) program appropriated funds among the states and inform ETA of the funding requirements states are anticipating.

A copy of the proposed information collection request (ICR) can be obtained by contacting the office listed below in the Addresses section of this notice or by accessing: http://www.doleta.gov/OMBCN/OMBControlNumber.cfm.

DATES: Submit comments on or before September 11, 2007.

ADDRESSES: Send comments to Lauren C. Harrel, Room S4231, 200 Constitution Avenue, NW., Washington, DC 20210, (202) 693-2992 (this is not a toll-free number). E-mail address is harrel.lauren@dol.gov and fax number is (202) 693-2874.

FOR FURTHER INFORMATION CONTACT: Lauren C. Harrel, Room S4231, 200 Constitution Avenue, NW., Washington, DC 20210, (202) 693-2992 (this is not a toll-free number). E-mail address is harrel.lauren@dol.gov and fax number is (202) 693-2874.

SUPPLEMENTARY INFORMATION: I. Background: The collection of actual UI administrative cost data from states' accounting records and projected expenditures for upcoming years is accomplished through the RJM data collection instrument. The data collected consists of the actual, most recently completed fiscal year's program expenditures and hours broken out by functional activity and three years of projected expenditures. The actual cost data informs ETA's administrative funding allocation model so that state UI program administration funds are allocated as equitably as possible among states.

ETA is proposing to revise the RJM data collection instrument in an effort to streamline the data entry process and to eliminate the collection of unnecessary data. Specifically, the modifications to the RJM include: (1) Adding a dropdown box to allocate personal service/personnel benefits (PS/PB) and non personal services (NPS) to applicable categories in the Crosswalk worksheet, (2) no longer requiring states to submit projected inflation rates for NPS or salaries and benefits (rather, a formula will inflate the prior year's data by 3 percent per year, and states will have the option to override the formula), and (3) requiring states to submit only two years of projected expenditures rather than three years.

II. Desired Focus of Comments: Currently, the Department of Labor is soliciting comments concerning the proposed extension of the RJM data collection. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

A copy of the proposed information collection request (ICR) can be obtained by contacting the office listed above in the addressee section of this notice.

III. Current Actions:

Type of Review: Minor Revisions and Extension for Approved Information Collection.

Agency: Employment and Training Administration.

Title: Resource Justification Model.

OMB Number: 1205-0430.

Affected Public: State Government.

Cite/Reference/Form/etc: Social Security Act, Section 303(a)(b).

Total Respondents: 53 State Workforce Agencies.

Frequency: Annually.

Total Responses: 212.

Average Time per Response: 30.75 hours.

Estimated Total Burden Hours: 6,519.

Form/activity | Total respondents | Frequency | Total responses | Average time per response (hours) | Burden (hours)
Crosswalk | 53 | Annually | 53 | 108 | 5,724
ACCT SUM | 53 | Annually | 53 | 4 | 212
RJM 1-6 | 53 | Annually | 53 | 3 | 159
Narrative | 53 | Annually | 53 | 8 | 424
Totals |  |  | 212 |  | 6,519

Total Burden Cost (capital/startup): There are no capital or start-up costs for RJM.

Total Burden Cost (operating/maintaining): $0.

Comments submitted in response to this comment request will be summarized and/or included in the request for Office of Management and Budget approval of the information collection request; they will also become a matter of public record.

Dated: July 9, 2007.
Cheryl Atkinson,
Administrator, Office of Workforce Security.

[FR Doc. E7-13554 Filed 7-12-07; 8:45 am]

BILLING CODE 4510-FW-P